DEPARTMENT OF THE INTERIOR

Office of the Secretary

Privacy Act of 1974, As Amended; Addition of a New System of Records

AGENCY: Office of the Secretary, U.S. Department of the Interior.

ACTION: Proposed addition of a new system of records.

SUMMARY: The Office of the Secretary, Department of the Interior is issuing public notice of its intent to add a new Privacy Act system of records to its inventory of records systems subject to the Privacy Act of 1974 (5 U.S.C. 552a). This action is necessary to meet the requirements of the Privacy Act to publish in the Federal Register notice of the existence and character of records systems maintained by the agency (5 U.S.C. 552a(e)(4)). The new system of records is called the Box Index Search System (BISS)—Interior, OS-3.

EFFECTIVE DATE: 5 U.S.C. 552a (e) (11) requires that the public be provided a 30-day period in which to comment on the agency's intended use of the information in the system of records. The Office of Management and Budget, in its Circular A-130, requires an additional 10-day period (for a total of 40 days) in which to make these comments. Any persons interested in commenting on this proposed amendment may do so by submitting comments in writing to the Department of the Interior, Office of the Secretary Privacy Act Officer, Sue Ellen Sloca, U.S. Department of the Interior, Mail Stop (MS)-1413, Main Interior Building (MIB), 1849 C Street, NW., Washington, DC 20240. Comments received within 40 days of publication in the Federal Register will be considered. The system will be effective as proposed at the end of the comment period unless comments are received which would require a contrary determination. The Department will publish a revised notice if changes are made based upon a review of comments received.

FOR FURTHER INFORMATION CONTACT: For information on the BISS—Interior, OS-3, please contact Ethel Abeita, Director, Office of Trust Records, 4400 Masthead NE, Albuquerque, NM, 87109, (505) 816-1600.

SUPPLEMENTARY INFORMATION: The purpose of the Box Index Search System (BISS) is to create a file-level listing of the contents of boxes of inactive records as a quick finding aid when records are retired, and to provide authorized parties with a tool to search all inactive records at the file-level that are stored at the American Indian Records Repository (AIRR) in Lenexa, KS. The BISS will provide an enhanced research capability over the existing paper Standard Form 135s, and other multiple partial inventory databases that currently exist. This improvement will enable DOI to centrally manage access to records and allow BIA and OST staff direct access to information about records that have been retired.

Dated: July 25, 2005.
Robert McKenna,
Chief Information Officer, Office of the Special Trustee for American Indians.

INTERIOR/OS-3

System name:

Box Index Search System (BISS)—Interior, OS-3.

System location:

This system is located in the Office of the Chief Information Officer, Office of the Special Trustee for American Indians (OST), 4400 Masthead NE, Albuquerque, NM. Information contained in the system will be made available electronically to OST offices in Albuquerque, NM; at the American Indian Records Repository (AIRR) in Lenexa, KS; and at OST and Bureau of Indian Affairs (BIA) field offices.

Categories of individuals covered by the system:

Individuals whose names and other identifying information appear in file folders from inactive BIA and OST records being retired to the American Indian Records Repository. Future information may include individual Indian-related financial records from other Departmental bureaus or offices.

Categories of records in the system:

The system consists of (1) Indices bearing the names of the individuals and/or any other identifiers that were included on the file folder label created by the originating office; (2) the type of records in the folder: (3) where the records originated; (4) date ranges of the information; (5) records management information; and (6) miscellaneous information associated with the storage box. It is noted that this system does not maintain the contents of the administrative or program file folder. Its purpose is to identify folders in boxes and provide brief summaries of the document types in file folders for financial records only.

Authority for maintenance of the system:

This system of records is maintained under the authority 44 U.S.C. 3101; 44 U.S.C. 3102; and 5 U.S.C. 301.

Routine uses of records maintained in the system, including categories of users and purposes of such uses:

The system's main purposes are to: (1) Create a file level listing of the contents of boxes containing inactive records as a quick finding aid, complementing the Standard Form 135 Records Transmittal and Receipt created when records are retired; and (2) provide authorized parties with a tool to search a file level index of all inactive records stored at the American Indian Records Repository (AIRR) in Lenexa, KS.

Disclosures outside the DOI may be made to:

(1) Indian Tribal account holders or their heirs, if deceased; (2) contractors who service and maintain the system for the Department; (3) an expert, consultant, or contractor (including employees of the contractor) of DOI that performs, on DOI's behalf, research and other services requiring access to these records in order to fulfill the purposes for which the underlying documents were created; (4) parties authorized to perform searches to locate official files in order to fulfill the purposes for which the underlying files were created ; (5)(a) any of the following entities or individuals, when the circumstances set forth in (b) are met:

(i) The Department of Justice (DOJ);

(ii) A court, adjudicative or other administrative body;

(iii) A party in litigation before a court or adjudicative or administrative body; or

(iv) Any DOI employee acting in his or her individual capacity if DOI or DOJ has agreed to represent that employee or pay for private representation of the employee;

(b) When

(i) One of the following is a party to the proceeding or has an interest in the proceeding:

(A) DOI or any component of DOI;

(B) Any DOI employee acting in his or her official capacity;

(C) Any DOI employee acting in his or her individual capacity if DOI or DOJ has agreed to represent that employee or pay for private representation of the employee;

(D) The United States, when DOJ determines that DOI is likely to be affected by the proceeding; and

(ii) DOI deems the disclosure to be:

(A) Relevant and necessary to the proceeding; and

(B) Compatible with the purposes for which the records were compiled.

(6) To a congressional office in response to a written inquiry of an individual covered by the system, or the heir of such individual if the covered individual is deceased, has made to the congressional office about the individual.

(7) To the appropriate Federal agency that is responsible for investigating, prosecuting, enforcing, or implementing a statute, rule, regulation or order, when we become aware of an indication of a violation or potential violation of the statute, rule, regulation or order.

(8) To an official of another Federal agency to provide information needed in the performance of official duties related to reconciling or reconstructing data files, in support of the functions for which the records were collected and maintained.

(9) To representatives of the National Archives and Records Administration to conduct records management inspections under the authority of 44 U.S.C. 2903 and 2904.

(10) To state and local governments and tribal organizations to provide information needed in response to court order, and/or discovery purposes related to litigation.

Disclosure to consumer reporting agencies:

Pursuant to 5 U.S.C. 552a(b)12, records can be disclosed to consumer reporting agencies as they are defined in the Fair Credit Reporting Act.

Storage:

Records are stored in electronic media on hard disks, magnetic tapes and compact disks and paper media.

Retrievability:

Information stored in BISS is full text indexed and can be searched by any significant textual item (words and/or numbers) or combination of textual items as well as by any field in the database.

Access Safeguards:

Maintained in accordance with the Department of the Interior Privacy Act regulations for safeguarding of information (43 CFR 2.51). A Privacy Impact Assessment was completed. Management controls and Rules of Behavior were developed to ensure security controls.

Retention and disposal:

Records relating to persons covered by this system are retained in accordance with the 16BIAM and other respective bureau/office records retention schedules. The system is scheduled for permanent retention.

System manager(s) and address:

Office of Trust Records, Department of the Interior, 4400 Masthead NE., Albuquerque, NM 87109.

Notification procedures:

An individual requesting notification of the existence of records on him or herself in the BISS should address his/her request to the System Manager above. The request must be in writing and signed by the requester and include his or her mailing address and social security number (See 43 CFR 2.60). Note, this system does not maintain the contents of the administrative or program file folder that is being transferred to the records center, and serves solely as a locator tool.

Records access procedures:

See procedures above and 43 CFR 2.63.

Contesting record procedures:

See procedures above and 43 CFR 2.71.

Record source categories:

Information in this system is obtained from BIA and OST administrative and program records. Future record holdings in AIRR may include Indian-related financial records from other Departmental bureaus or offices.

Exemptions claimed for the system:

None.

[FR Doc. 05-14949 Filed 7-28-05; 8:45 am]

BILLING CODE 4310-RK-P